DEPARTMENT OF TRANSPORTATION

Federal Aviation Administration

Request for Public Comment, Clinton County Airport, Plattsburgh, NY

AGENCY: Federal Aviation Administration (FAA), DOT.

ACTION: Request for public comment.

SUMMARY: The Federal Aviation Administration is requesting public comment on Clinton County Airport (PLB), Plattsburgh, New York notice of proposed release from aeronautical use of approximately 624 acres of airport property, including runways, taxiways, aprons, airside and landside facilities to allow for non-aeronautical development. It has been determined through the planning process to close Clinton County Airport and transfer all operations to Plattsburgh International Airport (PBG), Plattsburgh, New York, its replacement airport. FAA's action is to release the land from its deed provision requiring aeronautical use of the property. A prior study explored the potential for the public benefit conveyance of Plattsburgh International Airport as a replacement airport, with Clinton County as the owner and operator of the new airport. The Plattsburgh International Military Airport Program application and Airport Master Plan determined that land constituting Clinton County Airport has no aeronautical use and should be replaced by the new facility at PGB. Revenue generated from the disposal of the property will be utilized at the replacement airport, Plattsburgh International Airport, Plattsburgh, New York for aeronautical development. Documents reflecting the sponsor's request are available, by appointment only, for inspection at the Airport Manager's office and the FAA Airports District Office.

DATES: Comments must be received by November 13, 2007.

ADDRESSES: Comments on this application may be mailed or delivered to the FAA at the following address: Steven M. Urlass, Manager, FAA New York Airports District Office, 600 Old Country Road, Suite 446, Garden City, New York 11530. In addition, a coy of any comments submitted to the FAA must be mailed or delivered to Mr. James R. Langley, Chairperson, Clinton County Legislature, at the following address: Clinton County Government Center, 137 Margaret Street, Suite 208, Plattsburgh, New York 12901.

FOR FURTHER INFORMATION CONTACT: Steven M. Urlass, Manager, New York Airports, District Office, 600 Old Country Road, Suite 446, Garden City, New York 11530; telephone (516) 227-3813; E-mail steve.urlass@faa.gov.

SUPPLEMENTARY INFORMATION: Section 125 of the Wendell H. Ford Aviation Investment and Reform Act for the 1st Century (AIR21) requires the FAA to provide an opportunity for public notice and comment before the Secretary may waive a sponsor's Federal obligation to use certain airport land for aeronautical use.

Steven Urlass,
Manager, New York Airports District Office, Eastern Region.

[FR Doc. 07-5036 Filed 10-11-07; 8:45 am]

BILLING CODE 4910-13-M